SCIENCE AND TECHNOLOGY POLICY OFFICE

Request for Information; National Priorities for Artificial Intelligence

AGENCY: Office of Science and Technology Policy (OSTP).

ACTION: Notice of request for information.

SUMMARY: The Biden-Harris Administration is developing a National Artificial Intelligence (AI) Strategy that will chart a path for the United States to harness the benefits and mitigate the risks of AI. This strategy will build on the actions that the Federal Government has already taken to responsibly advance the development and use of AI. To inform this strategy, OSTP requests public comments to help update U.S. national priorities and future actions on AI.

DATES: Interested individuals and organizations are invited to submit comments by 5:00 p.m. ET on July 7, 2023.

ADDRESSES: Comments must be submitted via the Federal eRulemaking Portal at regulations.gov. However, if you require an accommodation or cannot otherwise submit your comments via regulations.gov, please contact the program contact person listed under FOR FURTHER INFORMATION CONTACT. OSTP will not accept comments by fax or by email, or comments submitted after the comment period closes. To ensure that OSTP does not receive duplicate copies, please submit your comments only once. Additionally, please include the Docket ID at the top of your comments.

Federal eRulemaking Portal: Go to www.regulations.gov to submit your comments electronically. Information on how to use www.regulations.gov, including instructions for accessing agency documents, submitting comments, and viewing the docket, is available on the site under “FAQ” (https://www.regulations.gov/faq).

Privacy Note: OSTP's policy is to make all comments received from members of the public available for public viewing in their entirety on the Federal eRulemaking Portal at www.regulations.gov. Therefore, commenters should be careful to include in their comments only information that they wish to make publicly available. OSTP requests that no proprietary information, copyrighted information, or personally identifiable information be submitted in response to this Request for Information (RFI).

Instructions: Response to this RFI is voluntary. Each responding entity (individual or organization) is requested to submit only one response.

Responses may address one or more topics, as desired, from the enumerated list provided in this RFI. Responders should note the corresponding topic number(s) in their response. Submissions must not exceed 10 pages (exclusive of cover page and references) in 11-point or larger font. Responses should include the name of the person(s) or organization(s) filing the comment, as well as the respondent type (e.g., academic institution, advocacy group, professional society, community-based organization, industry, member of the public, government, other). Comments referencing materials that are not widely published should include copies or electronic links of the referenced materials. No business proprietary information, copyrighted information, or personally identifiable information (aside from that requested above) should be submitted in response to this RFI. Comments submitted in response to this RFI may be posted online or otherwise released publicly.

In accordance with Federal Acquisitions Regulations Systems 15.202(3), responses to this notice are not offers and cannot be accepted by the Federal Government to form a binding contract. Additionally, those submitting responses are solely responsible for all expenses associated with response preparation.

FOR FURTHER INFORMATION CONTACT: For additional information, please direct questions to Nik Marda at AI-Strategy@ostp.eop.gov or 202-456-6121.

SUPPLEMENTARY INFORMATION:

Background: AI has been part of American life for years, and it is one of the most powerful technologies of our generation. The pace of AI innovation is accelerating rapidly, which is creating new applications for AI across society. This presents extraordinary opportunities to improve the lives of the American people and solve some of the toughest global challenges. However, it also poses serious risks to democracy, the economy, national security, civil rights, and society at large. To fully harness the benefits of AI, the United States must mitigate AI's risks.

The Biden-Harris Administration has already taken significant steps to advance responsible innovation, protect the American people's rights and safety, and ensure all Americans benefit from AI. The Federal Government funds significant amounts of responsible research in AI, has issued an updated National AI R&D Strategic Plan, and developed a plan to build a National AI Research Resource to ensure that more researchers have access to tools to leverage AI. The Biden-Harris Administration has protected national security and maintained global competitiveness, including by banning exports to the People's Republic of China of high-end computer chips used to build AI and by developing a strategy for responsible AI in defense. It has laid out a Blueprint for an AI Bill of Rights, an AI Risk Management Framework, provisions across multiple executive orders, and many actions across the Federal Government to promote responsible AI innovation, manage the risks associated with AI, and ensure AI systems are trustworthy and equitable. The Administration has also worked with like-minded partners around the world to assess AI's implications for the workforce, to advance collaborative AI research and development, and to ensure technology works for democracy.

The Biden-Harris Administration is undertaking a process to ensure a cohesive and comprehensive approach to AI-related risks and opportunities. By developing a National AI Strategy, the Federal Government will provide a whole-of-society approach to AI. The strategy will pay particular attention to recent and projected advances in AI, to make sure that the United States is responsive to the latest opportunities and challenges posed by AI, as well as the global changes that will arrive in the coming years. Through this RFI, OSTP and its National AI Initiative Office seeks information about AI and associated actions related to AI that could inform the development of a National AI Strategy.

OSTP will also draw on public input from ongoing and recent RFIs, including:

• OSTP's RFI to the Update of the National Artificial Intelligence Research and Development Strategic Plan;

• The National Telecommunication and Information Administration's Request for Comment on AI Accountability Policy;

• OSTP's and the National Science Foundation's RFI on Implementing Initial Findings and Recommendations of the National Artificial Intelligence Research Resource Task Force;

• OSTP's RFI on Automated Worker Surveillance and Management; and

• OSTP's RFI on Public and Private Sector Uses of Biometric Technologies.

If you have already responded to one or more of these RFIs, your prior input will be considered in the context of developing the National AI Strategy.

Scope: OSTP invites input from any interested stakeholders. OSTP will consider each comment, whether it contains a personal narrative, experiences with AI systems, or technical legal, research, policy, or scientific materials, or other content that meets the instructions for submissions to this RFI.

Information Requested: Respondents may provide information for one or more of the questions listed below, as desired. Note that the list below does not cover some AI topics as completely, such as AI research and development, given ongoing or recent RFIs on those topics.

Protecting rights, safety, and national security:

1. What specific measures—such as standards, regulations, investments, and improved trust and safety practices—are needed to ensure that AI systems are designed, developed, and deployed in a manner that protects people's rights and safety? Which specific entities should develop and implement these measures?

2. How can the principles and practices for identifying and mitigating risks from AI, as outlined in the Blueprint for an AI Bill of Rights and the AI Risk Management Framework, be leveraged most effectively to tackle harms posed by the development and use of specific types of AI systems, such as large language models?

3. Are there forms of voluntary or mandatory oversight of AI systems that would help mitigate risk? Can inspiration be drawn from analogous or instructive models of risk management in other sectors, such as laws and policies that promote oversight through registration, incentives, certification, or licensing?

4. What are the national security benefits associated with AI? What can be done to maximize those benefits?

5. How can AI, including large language models, be used to generate and maintain more secure software and hardware, including software code incorporating best practices in design, coding and post deployment vulnerabilities?

6. How can AI rapidly identify cyber vulnerabilities in existing critical infrastructure systems and accelerate addressing them?

7. What are the national security risks associated with AI? What can be done to mitigate these risks?

8. How does AI affect the United States' commitment to cut greenhouse gases by 50-52% by 2030, and the Administration's objective of net-zero greenhouse gas emissions no later than 2050? How does it affect other aspects of environmental quality?

Advancing equity and strengthening civil rights:

9. What are the opportunities for AI to enhance equity and how can these be fostered? For example, what are the potential benefits for AI in enabling broadened prosperity, expanding economic and educational opportunity, increasing access to services, and advancing civil rights?

10. What are the unique considerations for understanding the impacts of AI systems on underserved communities and particular groups, such as minors and people with disabilities? Are there additional considerations and safeguards that are important for preventing barriers to using these systems and protecting the rights and safety of these groups?

11. How can the United States work with international partners, including low- and middle-income countries, to ensure that AI advances democratic values and to ensure that potential harms from AI do not disproportionately fall on global populations that have been historically underserved?

12. What additional considerations or measures are needed to assure that AI mitigates algorithmic discrimination, advances equal opportunity, and promotes positive outcomes for all, especially when developed and used in specific domains (e.g., in health and human services, in hiring and employment practices, in transportation)?

13. How might existing laws and policies be updated to account for inequitable impacts from AI systems? For example, how might existing laws and policies be updated to account for the use of generative AI to create and disseminate non-consensual, sexualized content?

Bolstering democracy and civic participation:

14. How can AI be used to strengthen civic engagement and improve interactions between people and their government?

15. What are the key challenges posed to democracy by AI systems? How should the United States address the challenges that AI-generated content poses to the information ecosystem, education, electoral process, participatory policymaking, and other key aspects of democracy?

16. What steps can the United States take to ensure that all individuals are equipped to interact with AI systems in their professional, personal, and civic lives?

Promoting economic growth and good jobs:

17. What will the principal benefits of AI be for the people of the United States? How can the United States best capture the benefits of AI across the economy, in domains such as education, health, and transportation? How can AI be harnessed to improve consumer access to and reduce costs associated with products and services? How can AI be used to increase competition and lower barriers to entry across the economy?

18. How can the United States harness AI to improve the productivity and capabilities of American workers, while mitigating harmful impacts on workers?

19. What specific measures—such as sector-specific policies, standards, and regulations—are needed to promote innovation, economic growth, competition, job creation, and a beneficial integration of advanced AI systems into everyday life for all Americans? Which specific entities should develop and implement these measures?

20. What are potential harms and tradeoffs that might come from leveraging AI across the economy? How can the United States promote quality of jobs, protect workers, and prepare for labor market disruptions that might arise from the broader deployment of AI in the economy?

21. What are the global labor force implications of AI across economies, and what role can the United States play in ensuring workforce stability in other nations, including low- and middle-income countries?

22. What new job opportunities will AI create? What measures should be taken to strengthen the AI workforce, to ensure that Americans from all backgrounds and regions have opportunities to pursue careers in AI, and otherwise to prepare American workers for jobs augmented or affected by AI?

23. How can the United States ensure adequate competition in the marketplace for advanced AI systems?

Innovating in public services:

24. How can the Federal Government effectively and responsibly leverage AI to improve Federal services and missions? What are the highest priority and most cost-effective ways to do so?

25. How can Federal agencies use shared pools of resources, expertise, and lessons learned to better leverage AI in government?

26. How can the Federal Government work with the private sector to ensure that procured AI systems include protections to safeguard people's rights and safety?

27. What unique opportunities and risks would be presented by integrating recent advances in generative AI into Federal Government services and operations?

28. What can state, Tribal, local, and territorial governments do to effectively and responsibly leverage AI to improve their public services, and what can the Federal Government do to support this work?

Additional input:

29. Do you have any other comments that you would like to provide to inform the National AI Strategy that are not covered by the questions above?

Dated: May 23, 2023.
Stacy Murphy,
Deputy Chief Operations Officer and Security Officer.

[FR Doc. 2023-11346 Filed 5-25-23; 8:45 am]

BILLING CODE 3270-F1-P